DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Board of Directors and Subcommittee Meetings.

TIME AND DATE: The meetings will occur on the following schedule and will take place in the Eastern (Standard) Time Zone:

Monday, January 28, 2019

9:00 a.m.-9:50 a.m. Procedures Subcommittee

9:50 a.m.-10:45 a.m. Audit Subcommittee

11:00 a.m.-12:00 Noon Finance Subcommittee

1:30 p.m.-3:00 p.m. Registration System Subcommittee

3:15 p.m.-4:15 p.m. Industry Advisory Subcommittee

4:15 p.m.-5:00 p.m. Dispute Resolution Subcommittee

Tuesday, January 29, 2019

The Unified Carrier Registration Plan Board of Directors meeting will be held from 8:30 a.m. until noon.

PLACE: These meetings will be open to the public at the Embassy Suites, Tampa Downtown Convention Center, 513 South Florida Ave., Tampa, FL 33602, and via conference call. Those not attending the meetings in person may call toll-free; 1-866-210-1669, passcode 5253902#, to listen and participate in the meetings.

STATUS: Open to the public.

MATTERS TO BE CONSIDERED: The Unified Carrier Registration Plan Board of Directors will continue its work in developing and implementing the Unified Carrier Registration Plan and Agreement and to that end, may consider matters properly before the Board. An agenda for these meetings will be available no later than 5:00 p.m. Eastern Standard Time, January 18, 2019 at: https://ucrplan.org.

FOR FURTHER INFORMATION CONTACT: Mr. Avelino Gutierrez, Chair, Unified Carrier Registration Board of Directors at (505) 827-4565.

Issued on: December 11, 2018.
Larry W. Minor,
Associate Administrator, Office of Policy, Federal Motor Carrier Safety Administration.

[FR Doc. 2018-27775 Filed 12-18-18; 4:15 pm]

BILLING CODE 4910-EX-P